DEPARTMENT OF COMMERCE

International Trade Administration

[A-122-814]

Pure Magnesium From Canada; Final Results of Antidumping Duty Administrative Review and Determination Not To Revoke the Antidumping Duty Order in Part

AGENCY: Import Administration, International Trade Administration, Department of Commerce.

ACTION: Notice of final results of 1998-1999 administrative review and intent not to revoke.

SUMMARY: The Department of Commerce is conducting an administrative review of the antidumping duty order on pure magnesium from Canada. The period of review is August 1, 1998 through July 31, 1999. This review covers imports of pure magnesium from one producer/exporter.

For our final results, we have found that sales of the subject merchandise have not been made below normal value. We will instruct the Customs Service not to assess antidumping duties on the subject merchandise exported by this company. Furthermore, we are not revoking the antidumping duty order given that shipments of subject merchandise to the United States by Norsk Hydro Canada Inc. have not been made in commercial quantities for each of the three consecutive review periods that formed the basis of the revocation request. See Determination Not To Revoke Order section of this notice.

EFFECTIVE DATE: September 14, 2000.

FOR FURTHER INFORMATION CONTACT: Jarrod Goldfeder or Meg Weems, Import Administration, AD/CVD Enforcement Group I, Office 1, U.S. Department of Commerce, 14th Street and Constitution Avenue, NW, Washington, D.C. 20230; telephone (202) 482-0189 or 482-2613, respectively.

SUPPLEMENTARY INFORMATION:

Applicable Statute and Regulations

Unless otherwise indicated, all citations to the Tariff Act of 1930, as amended (“the Act”), are references to the provisions effective January 1, 1995, the effective date of the amendments made to the Act by the Uruguay Round Agreements Act (“URAA”). In addition, all references to the Department of Commerce's (“the Department's”) regulations are to 19 CFR Part 351 (1999).

Background

This review covers one manufacturer/exporter of pure magnesium, Norsk Hydro Canada Inc. (“NHCI”). This period of review (“POR”) is August 1, 1998, through July 31, 1999.

On May 10, 2000, the Department published the preliminary results of the administrative review of the antidumping duty order on pure magnesium from Canada and its notice of intent not to revoke the order with respect to pure magnesium produced by NHCI (65 FR 30070) (“Preliminary Results”). We invited parties to comment on our Preliminary Results of review. NHCI filed a case brief on June 16, 2000. The petitioner, Magnesium Corporation of America (“the petitioner”), filed a rebuttal brief on June 28, 2000. A public hearing was not held.

Scope of the Review

The product covered by this review is pure magnesium. Pure unwrought magnesium contains at least 99.8 percent magnesium by weight and is sold in various slab and ingot forms and sizes. Granular and secondary magnesium are excluded from the scope of this review. Pure magnesium is currently classified under subheading 8104.11.0000 of the Harmonized Tariff Schedule of the United States (“HTSUS”). The HTSUS item number is provided for convenience and for U.S. Customs Service (“Customs”) purposes. The written description remains dispositive.

Determination Not to Revoke Order in Part

The Department “may revoke, in whole or in part” an antidumping duty order upon completion of a review under section 751 of the Act. While Congress has not specified the procedures that the Department must follow in revoking an order, the Department has developed a procedure for revocation that is described in 19 CFR 351.222. This regulation requires, inter alia, that a company requesting revocation must submit the following: (1) A certification that the company has sold the subject merchandise at not less than normal value (“NV”) in the current review period and that the company will not sell at less than NV in the future; (2) a certification that the company sold the subject merchandise in each of the three years forming the basis of the request in commercial quantities; and (3) an agreement to reinstatement of the order if the Department concludes that the company, subsequent to the revocation, sold subject merchandise at less than NV. See 19 CFR 351.222(e)(1). Upon receipt of such a request, the Department may revoke an order, in part, if it concludes that (1) the company in question has sold subject merchandise at not less than NV for a period of at least three consecutive years; (2) it is not likely that the company will in the future sell the subject merchandise at less than NV; and (3) the company has agreed to its immediate reinstatement in the order if the Department concludes that the company, subsequent to the revocation, sold subject merchandise at less than NV. See 19 CFR 351.222(b)(2).

We must determine, as a threshold matter, in accordance with 19 CFR 351.222(e)(1)(ii), whether the company requesting revocation sold the subject merchandise in commercial quantities in each of the three years forming the basis of the request. In our Preliminary Results, we determined that “NHCI does not qualify for revocation of the order on pure magnesium because it does not have three consecutive years of sales in commercial quantities at not less than normal value.” See Preliminary Results, 65 FR at 30071; see also Memorandum from Team to Susan Kuhbach, “Commercial Quantities,” dated April 20, 2000, for a discussion of NHCI's selling activity.

After consideration of the various comments that were submitted in response to the Preliminary Results, we determine that NHCI did not sell the subject merchandise in the United States in commercial quantities in each of the three years cited by NHCI to support its request for revocation. See “Analysis of Comments Received,” below. Therefore, we find that NHCI does not qualify for revocation of the order on pure magnesium under 19 CFR 351.222(e)(1)(ii).

Our determination is consistent with the two immediately preceding administrative reviews of this order. See Pure Magnesium From Canada; Final Results of Antidumping Duty Administrative Review and Determination Not to Revoke Order in Part, 64 FR 12977, 12978 (March 16, 1999) (“Fifth Review”) and Pure Magnesium From Canada; Final Results of Antidumping Duty Administrative Review and Determination Not to Revoke Order in Part, 64 FR 50489, 50490 (September 17, 1999) (“Sixth Review”). In the Fifth Review, we determined that NHCI did not sell the subject merchandise in the United States in commercial quantities in any of the three years cited by NHCI to support its request for revocation (the administrative review years 1994-1995, 1995-1996, and 1996-1997). See Fifth Review, 64 FR at 12978. In the Sixth Review, we determined that NHCI did not sell the subject merchandise in the United States in commercial quantities in two of the three years cited by NHCI to support its request for revocation (the administrative review years 1995-1996 and 1996-1997). Thus, consistent with our findings in the Fifth Review and Sixth Review, we determine that NHCI does not qualify for revocation of the order on pure magnesium because it did not make sales at not less than NV in at least one of the three years cited by NHCI to support its request for revocation (the administrative review years 1996-1997), as provided for in 19 CFR 351.222(b) and (e)(1)(ii). Furthermore, we note that because NHCI did not make sales in commercial quantities during the POR of the Fifth Review, it is not necessary to examine whether NHCI made sales in commercial quantities during the sixth and seventh review periods (i.e., 1997-98 and 1998-99).

Analysis of Comments Received

All issues raised in the case and rebuttal briefs in this administrative review are addressed in the “Issues and Decision Memorandum for the Seventh Antidumping Duty Administrative Review and Determination Not to Revoke” from Richard W. Moreland, Deputy Assistant Secretary for AD/CVD Enforcement Group I, Import Administration, to Troy H. Cribb, Acting Assistant for Import Administration, dated September 7, 2000 (“Decision Memorandum”), which is hereby adopted by this notice. A list of the issues which parties have raised and to which we have responded, all of which are in the Decision Memorandum, is attached to this notice as an Appendix. Parties can find a complete discussion of all issues raised in this review and the corresponding recommendations in this Decision Memorandum, which is on file in the Central Records Unit, room B-099 of the main Department of Commerce building. In addition, a complete version of the Decision Memorandum can be accessed directly on the World Wide Web at http://ia.ita.doc.gov/frn/. The paper copy and electronic version of the Decision Memorandum are identical in content.

Changes From the Preliminary Results

We calculated export price and NV based on the same methodology described in the Preliminary Results.

Final Results of the Review

As a result of this review, we determine that the following percentage weighted-average margin exists for the period August 1, 1998, through July 31, 1999:

Manufacturer/exporter | Margin
Norsk Hydro Canada Inc. | zero.

Because the weighted-average dumping margin is zero, we will instruct the Customs Service to liquidate all entries made during this review period without regard to antidumping duties for the subject merchandise that NHCI exported.

Cash Deposit Requirements

The following deposit requirements will be effective for all shipments of the subject merchandise entered, or withdrawn from warehouse, for consumption on or after the publication date of these final results of this administrative review, as provided by section 751(a)(1) of the Act: (1) The cash deposit rate for NHCI will be the rate indicated above; (2) for companies not covered in this review, but covered in previous reviews or the original less-than-fair-value investigation, the cash deposit rate will continue to be the company-specific rate published for the most recent period; (3) if the exporter is not a firm covered in this review, a prior review, or the original investigation, but the manufacturer is, the cash deposit rate will be the most recent rate established for the manufacturer of the merchandise; and (4) if neither the exporter nor the manufacturer is a firm covered in this or any previous review or the original investigation, the cash deposit rate will be the “all others” rate of 21 percent established in the amended final determination of sales at less than fair value (58 FR 62643 (November 29, 1993)).

These deposit requirements will remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (“APOs”) of their responsibility concerning the disposition of proprietary information disclosed under APO in accordance with 19 CFR 351.305(a)(3). Timely written notification of the return/destruction of APO materials or conversion to judicial protective order is hereby requested. Failure to comply with the regulations and the terms of an APO is a violation which is subject to sanction.

This determination is issued and published in accordance with sections 751(a)(1) and 777(i)(1) of the Act.

Dated: September 7, 2000.
Troy H. Cribb,
Acting Assistant Secretary for Import Administration.

Appendix—Issues in Decision Memo—

Comments and Responses

A. Revocation/Commercial Quantities

1. Compliance with the WTO Antidumping Agreement

2. Definition of Commercial Quantities

3. Retroactive Application

4. Procedural Requirements for Revocation

5. The Department's Revocation Practice

6. Benchmarks Used to Determine Commercial Quantities

7. Significant Drop-offs in Sales After Imposition of an Order

8. Changes to a Respondent's Commercial Practice

9. Whether the Evidence Demonstrates Commercial Quantities

[FR Doc. 00-23687 Filed 9-13-00; 8:45 am]

BILLING CODE 3510-DS-P